POSTAL SERVICE

Change to the Retirement Plan for Manually Set Postage Meters

AGENCY: Postal Service.

ACTION: Notice of proposed change to plan with request for comments.

SUMMARY: The Postal Service proposes to revise the Retirement Plan for Manually Set Postage Meters, published in the Federal Register on December 13, 2000, for meters with lease expiration dates on or after October 1, 2004. The proposed retirement date for these manually set electronic meters will be May 31, 2005. The Postal Service will set no electronic manually set meters after February 28, 2005.

DATES: Submit comments on or before July 15, 2004.

ADDRESSES: Mail or deliver written comments on this proposal to the Manager, Postage Technology Management, 1735 N Lynn Street, Room 5011, Arlington, VA 22209-6370. Copies of all written comments will be available at the address in this section for public inspection and photocopying between 9 a.m. and 4 p.m., Monday through Friday.

FOR FURTHER INFORMATION CONTACT: Wayne A. Wilkerson, manager of Postage Technology Management, at 703-292-3691 or by fax at 703-292-4073.

SUPPLEMENTARY INFORMATION:

Proposed Changes

The Retirement Plan for Manually Set Postage Meters, published in the Federal Register on December 13, 2000 (65 FR 77934), specified that a manually set electronic meter could be used until the end of the calendar quarter following the quarter in which the lease expires, at which time the meter must be retired and withdrawn from service. However, the Postal Service is upgrading the systems used to process point of sale transactions in local Post Offices™. Given the limited number of active manually set meters that will be in service after January 1, 2005 (fewer than 200), the Postal Service cannot justify the cost of including the associated transactions in the development of the new system. Therefore, the Postal Service proposes to retire all manually set electronic meters from service, effective May 31, 2005. The proposed change will affect fewer than 200 meters.

The Proposed Revised Plan

The Postal Service retirement date for manually set electronic meters with lease expiration dates on or after October 1, 2004, will be May 31, 2005. The Postal Service will set no electronic manually set meters after February 28, 2005. Anyone in possession of a manually set meter must return it to the meter provider on or before May 31, 2005. The meter provider will withdraw the meter from service.

Effective August 1, 2004, no manually set meter in service may be replaced by another manually set meter, even when the meter malfunctions, and no manually set meter may be relocated to a different licensing Post Office.

Any manually set electronic postage meter that is capable of remote meter setting must be either converted to remote meter setting or retired from service and returned to the meter provider. The function that allows manual setting must be disabled.

The manager of Postage Technology Management, Postal Service Headquarters, will send official notification to those affected users with an explanation of this plan. No other correspondence is official. The manager of Postage Technology Management reserves the right to review manufacturer correspondence to these meter users prior to its distribution.

A final plan will be published after the Postal Service has received and reviewed all interested parties' comments.

Neva R. Watson,
Attorney, Legislative.

[FR Doc. 04-13348 Filed 6-14-04; 8:45 am]

BILLING CODE 7710-12-P